DEPARTMENT OF THE INTERIOR

Bureau of Land Management

[AZ-040-00-1040-XX]

Gila Box Riparian National Conservation Area (RNCA) Advisory Committee Meeting

AGENCY: Bureau of Land Management, Interior.

SUMMARY: The purpose of this notice is to announce the next meeting of the Gila Box Riparian National Conservation Area Advisory Committee Meeting. The purpose of the Advisory Committee is to provide informed advice to the Bureau of Land Management (BLM) Safford Field Manager on management of public lands in the Gila Box Riparian National Conservation Area. The committee meets as needed, generally between two and four times a year.

The meeting will begin at the BLM Safford Field Office on November 3, 2000, commencing at 7 a.m. and ending at 5 p.m. The meeting's agenda will consist of a tour of portions of the Gila Box RNCA with community leaders from Graham and Greenlee counties to build support for the implementation of the Gila Box RNCA management plan. A public comment period will begin at 7 a.m. and may continue for the duration of the meeting at the discretion of the Gila Box Advisory Committee. The public may accompany the Committee and invited guests on the tour, but must provide their own transportation and lunch.

DATES: Meeting will be held on November 3, 2000, starting at 7 a.m.

FOR FURTHER INFORMATION CONTACT: Jon Collins, Gila Box RNCA Project Coordinator, BLM, Safford Field Office, 711 14th Avenue, Safford, Arizona 85546; telephone number: (520) 348-4400.

Dated: September 28, 2000.
Wayne King,
Acting Field Office Manager.

[FR Doc. 00-25911 Filed 10-6-00; 8:45 am]

BILLING CODE 4310-22-M